DEPARTMENT OF TRANSPORTATION

Pipeline and Hazardous Materials Safety Administration

[Docket No. PHMSA-2019-0224; Notice No. 2020-02]

Hazardous Materials: Notice of Public Meetings in 2020 for International Standards on the Transport of Dangerous Goods

AGENCY: Pipeline and Hazardous Materials Safety Administration (PHMSA), Office of Hazardous Materials Safety, Department of Transportation (DOT).

ACTION: Notice of 2020 public meetings.

SUMMARY: This notice announces that PHMSA's Office of Hazardous Materials Safety will host three public meetings during 2020 in advance of certain international meetings. The first meeting will be held in preparation of the 57th session of the United Nations Sub-Committee of Experts on the Transport of Dangerous Goods (UNSCOE TDG), held June 29 to July 8, 2020, in Geneva, Switzerland. The second meeting will be held in preparation of the International Civil Aviation Organization's (ICAO) Dangerous Goods Panel (DGP) Working Group 20 (WG/20) meeting held September 21-25, 2020, in Montreal, Canada. The third meeting will be held in preparation of the 58th session of the UNSCOE TDG held November 30 to December 8, 2020, in Geneva, Switzerland. For each of these meetings, PHMSA will solicit public input on U.S. government positions regarding proposals submitted by member countries in advance of each meeting.

DATES: Each public meeting will take place approximately two weeks preceding the international meeting. Specific information for each meeting will be posted when available on the PHMSA website at https://www.phmsa.dot.gov/international-program/international-program-overview under “Upcoming Events.”

ADDRESSES: Each public meeting will take place at DOT Headquarters, West Building, 1200 New Jersey Avenue SE, Washington, DC 20590-0001. Specific information for each meeting will be posted when available on the PHMSA website at https://www.phmsa.dot.gov/international-program/international-program-overview under “Upcoming Events.” This information will include the public meeting date, time, conference call-in number, and details for advanced registration.

FOR FURTHER INFORMATION CONTACT: Steven Webb or Aaron Wiener, PHMSA, U.S. Department of Transportation. Telephone: (202) 366-8553.

SUPPLEMENTARY INFORMATION:

The purpose of PHMSA's public meetings held in advance of certain international meetings is to allow the public to give input on the current meeting proposals.

The 57th and 58th sessions of the UNSCOE TDG will represent the third and fourth meetings scheduled for the 2019-2020 biennium. The UNSCOE TDG will consider proposals for the 22nd Revised Edition of the United Nations Recommendations on the Transport of Dangerous Goods: Model Regulations (Model Regulations), which may be implemented into relevant domestic, regional, and international regulations starting January 1, 2023. Copies of working documents, informal documents, the agenda, and the post-meeting final report may be obtained from the United Nations Transport Division's website at: http://www.unece.org/trans/danger/danger.html.

The ICAO WG/20 meeting will represent the first meeting of the 2020-2021 biennium. The ICAO DGP will consider proposals for the 2023-2024 edition of the Technical Instructions for the Safe Transport of Dangerous Goods by Air (Doc 9284). Copies of working papers, information papers, the agenda, and the post-meeting final report may be obtained from the ICAO DGP website at: https://www.icao.int/safety/DangerousGoods/Pages/DGPMeetings.aspx.

These meetings will be open to the public on a first-come, first served basis, as space is limited. Advanced meeting registration information will be posted on the PHMSA website. DOT is committed to providing equal access to this meeting for all participants. If you need alternative formats or services because of a disability, such as sign language, interpretation, or other ancillary aids, please contact the person listed in the FOR FURTHER INFORMATION CONTACT section.

Signed in Washington, DC, on April 24, 2020.
William S. Schoonover,
Associate Administrator, Hazardous Materials Safety, Pipeline and Hazardous Materials Safety Administration.

[FR Doc. 2020-09076 Filed 4-28-20; 8:45 am]

BILLING CODE 4910-60-P